DEPARTMENT OF COMMERCE

National Oceanic and Atmospheric Administration

50 CFR Part 660

[RTID 0648-XC119]

Fisheries Off West Coast States; West Coast Salmon Fisheries; Amendment 23 to the Pacific Coast Salmon Fishery Management Plan

AGENCY: National Marine Fisheries Service (NMFS), National Oceanic and Atmospheric Administration (NOAA), Commerce.

ACTION: Notice of agency decision.

SUMMARY: NMFS announces the approval of Amendment 23 to the Pacific Coast Salmon Fishery Management Plan (Salmon FMP). Amendment 23 amends the Salmon FMP's current harvest control rule (HCR) for the Southern Oregon/Northern California Coast (SONCC) Coho Salmon Evolutionarily Significant Unit (ESU).

DATES: The amendment was approved on November 10, 2022.

ADDRESSES: The amended Salmon FMP is available on the Pacific Fishery Management Council's (Council) website (www.pcouncil.org). The final National Environmental Policy Act (NEPA) environmental assessment (EA) evaluating this action is available on the NMFS website at https://www.fisheries.noaa.gov/west-coast/laws-and-policies/west-coast-salmon-harvest-nepa-documents.

FOR FURTHER INFORMATION CONTACT: Shannon Penna at 562-980-4239.

SUPPLEMENTARY INFORMATION:

Background

The ocean salmon fisheries in the exclusive economic zone (EEZ) (3-200 nautical miles; 5.6-370.4 kilometers) seaward of Washington, Oregon, and California are managed under the Salmon FMP. The Magnuson-Stevens Fishery Conservation and Management Act (MSA) requires that each regional fishery management council submit any fishery management plan (FMP) or plan amendment it prepares to NMFS for review and approval, disapproval, or partial approval by the Secretary of Commerce (Secretary) (MSA 304(a)). The MSA also requires that NMFS, upon receiving an FMP or plan amendment, immediately publish a notice that the FMP or plan amendment is available for public review and comment.

The Notice of Availability (NOA) for Amendment 23 was published in the Federal Register on August 18, 2022 (87 FR 50824), with a 60-day comment period that ended on October 17, 2022. In the NOA, NMFS also announced that a draft EA analyzing the environmental impacts of the actions implemented under Amendment 23 was available for public review and comments by October 3, 2022. NMFS summarized and responded to comments in the final EA, and under Comments and Responses, below.

NMFS completed a biological opinion under section 7 of the ESA on the implementation of the Salmon FMP, including Amendment 23, and determined that this action is not likely to jeopardize the continued existence of any endangered or threatened species under the jurisdiction of NMFS (NMFS Consultation Number: WCRO-2021-03260; biological opinion signed April 28, 2022).

NMFS determined that Amendment 23 is consistent with the MSA and other applicable laws, and the Secretary of Commerce approved Amendment 23 on November 10, 2022. The August 18, 2022 NOA contains additional information on this action. Amendment 23 will be implemented through the annual salmon management measures; no changes to existing Federal regulations are necessary.

Amendment 23 will replace the current HCR with two new HCRs. The first will limit total fishery exploitation rates (ERs) on each of five individual representative population units within the SONCC coho salmon ESU to 15 percent annually, except for the Trinity River population (represented by the Upper Trinity River, Lower Trinity River, and South Fork Trinity River populations). The second HCR will limit the total ER on the Trinity River population unit to 16 percent. Both HCRs account for all ocean and inland sources of fishery mortality annually and include landed and non-landed mortality of age-3 adult SONCC coho salmon.

During its annual salmon preseason planning process for developing recommended annual management measures governing ocean salmon fisheries, the Council will evaluate ocean salmon fisheries using the coho salmon Fishery Regulation Assessment Model (FRAM) so that, when combined with estimated freshwater impacts, the preseason projected total ERs will not exceed the adopted HCRs. The estimated freshwater impacts will be determined using projections provided by co-managing agencies (i.e., the Oregon Department of Fish and Wildlife, Yurok Tribe, Hoopa Valley Tribe, or California Department of Fish and Wildlife). Postseason ERs will be estimated for each year once postseason harvest and abundance estimates become available. Coho salmon-directed salmon fisheries and retention of coho salmon in Chinook salmon-directed salmon fisheries will remain prohibited in the EEZ seaward of California. Annual salmon management measures implemented consistent with Amendment 23 will be applied in concert with measures designed to meet other requirements of the FMP including conservation objectives and annual catch limits for specific salmon stocks and stock complexes.

Comments and Responses

NMFS received four comments during the public comment period. Three comments were from private citizens and the fourth comment was a letter from the United States (U.S.) Environmental Protection Agency (EPA). One comment from private citizens was in support of Amendment 23 and two comments were not relevant to the scope of Amendment 23. The EPA specifically addresses the draft EA by providing recommendations for NMFS to clearly document tribal engagement and to clearly describe the final project in the final EA. NMFS incorporated the recommendations from the comments received from the EPA into the final EA.

Authority: 16 U.S.C. 1801 et seq.

Dated: November 16, 2022.
Samuel D. Rauch, III,
Deputy Assistant Administrator for Regulatory Programs, National Marine Fisheries Service.

[FR Doc. 2022-25328 Filed 11-21-22; 8:45 am]

BILLING CODE 3510-22-P